DEPARTMENT OF THE TREASURY

Alcohol and Tobacco Tax and Trade Bureau

27 CFR Part 9

[Notice No. 46]

RIN 1513-AB01

Proposed Establishment of the Wahluke Slope Viticultural Area (2005R-026P)

AGENCY: Alcohol and Tobacco Tax and Trade Bureau, Treasury.

ACTION: Notice of proposed rulemaking.

SUMMARY: The Alcohol and Tobacco Tax and Trade Bureau proposes to establish the “Wahluke Slope” viticultural area in Grant County, in eastern Washington State. The proposed 81,000-acre area is totally within the established Columbia Valley viticultural area. We designate viticultural areas to allow vintners to better describe the origin of their wines and to allow consumers to better identify wines they may purchase. We invite comments on this proposed addition to our regulations.

DATES: We must receive written comments on or before July 18, 2005.

ADDRESSES: You may send comments to any of the following addresses:

• Chief, Regulations and Procedures Division, Alcohol and Tobacco Tax and Trade Bureau, Attn: Notice No. 46, P.O. Box 14412, Washington, DC 20044-4412.

• 202-927-8525 (facsimile).

• nprm@ttb.gov (e-mail).

• http://www.ttb.gov/alcohol/rules/index.htm. An online comment form is posted with this notice on our Web site.

• http://www.regulations.gov (Federal e-rulemaking portal; follow instructions for submitting comments).

You may view copies of this notice, the petition, the appropriate maps, and any comments we receive about this notice by appointment at the TTB Library, 1310 G Street, NW., Washington, DC 20220. To make an appointment, call 202-927-2400. You may also access copies of the notice and comments online at http://www.ttb.gov/alcohol/rules/index.htm.

See the Public Participation section of this notice for specific instructions and requirements for submitting comments, and for information on how to request a public hearing.

FOR FURTHER INFORMATION CONTACT: N.A. Sutton, Regulations and Procedures Division, Alcohol and Tobacco Tax and Trade Bureau, 925 Lakeville St., No. 158, Petaluma, California 94952; telephone 415-271-1254.

SUPPLEMENTARY INFORMATION:

Background on Viticultural Areas

TTB Authority

Section 105(e) of the Federal Alcohol Administration Act (the FAA Act, 27 U.S.C. 201 et seq.) requires that alcohol beverage labels provide consumers with adequate information regarding product identity and prohibits the use of misleading information on those labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographical origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, elevation, physical features, and soils that distinguish the proposed viticultural area from surrounding areas;

• A description of the specific boundary of the proposed viticultural area, based on features found on United States Geological Survey (USGS) maps; and

• A copy of the appropriate USGS map(s) with the proposed viticultural area's boundary prominently marked.

Wahluke Slope Petition

The Wahluke Slope Wine Grape Growers Association, represented by Alan J. Busacca, PhD, proposes the establishment of the 81,000-acre Wahluke Slope viticultural area. Located in Grant County in eastern Washington State, the proposed area is approximately 145 miles southeast of Seattle and immediately north of the Hanford Reservation of the United States Department of Energy (USDOE), as shown on the American Automobile Association (AAA) State Series map for Oregon and Washington, February 2003 edition. The proposed Wahluke Slope area is also entirely within the existing Columbia Valley viticultural area (27 CFR 9.74). The petition states there are currently 5,200 acres of vineyard land within the proposed area, as of the November 2004 petition date.

The petition lists the major distinguishing factors of the proposed Wahluke Slope viticultural area as including its single landform and geographic isolation, distinctive soil patterns, and unique climatic characteristics. The petition also explains how this combination of distinguishing factors creates a distinctive grape-growing region.

Name Evidence

The USGS quadrangle maps of Priest Rapids and Coyote Rapids label the region within the proposed viticultural area as Wahluke Slope. The AAA State Series map for Oregon and Washington, February 2003 edition, shows Wahluke Slope north of the Hanford Reservation. The 2002 edition of the DeLorme Washington Atlas and Gazetter, included in the petition, indicates Wahluke Slope in the region of the proposed viticultural area.

The 2002 Washington Wine Grape Acreage Survey, by the Washington Agricultural Statistics Service, identifies the Wahluke Slope area within the larger Columbia Valley viticultural area, according to documentation provided in the petition. Also, the April 19, 1999, edition headline of the “Hanford Reach,” a USDOE publication, stated that Secretary of Energy Bill Richardson proposed to preserve a portion of the Wahluke Slope area along the Columbia River. A Grant County Tourism Press Room release dated March 24, 2004, which was included with the petition, describes the scenery and recreational opportunities in the Wahluke Slope area.

Boundary Evidence

The Wahluke Slope sits on a mega alluvial plain, also known as an alluvial fan, the petition explains. The proposed boundary line encompasses the entire portion of the mega fan potentially available for vineyard development, including all land held in private ownership and small amounts of government-owned land, the petition adds. Also, according to the petition, the Wahluke Slope area is an isolated island of wine grape production, with no known vineyards within five miles, in any direction, beyond the proposed boundary line.

Generally, lands to the east, south and west of the proposed Wahluke Slope area's boundary line are Federal-owned or State-owned property, according to the petition and USGS maps of the area. To the north, the Saddle Mountains flank the proposed area's 1,480-foot boundary line.

According to the petition, to the southeast of the proposed Wahluke Slope viticultural area, the land has a high water table, cold air pockets, and frost, which create an environment unsuitable for vineyard production. To the south of the proposed boundaries is the Hanford Reservation. The petition states that the classified activities and history of the reservation make it unsuitable for agricultural development. To the west of the Wahluke Slope area, and across the Columbia River, are steeply sloping, rugged canyons. The soils are shallow, stony, and unsuitable for any crop, as the petition explains and the USGS topographic maps confirm. Also, to the north, beyond the proposed area's 1,480-foot boundary line, the Saddle Mountains have high elevation bedrock slopes, no irrigation access, and non-agricultural soils.

The combination of terrain with unsuitable growing environments and government-owned lands surrounding the proposed Wahluke Slope viticultural area, in conjunction with the distinguishing viticultural factors of the area, makes the proposed boundary line the best and most appropriate for the proposed Wahluke Slope viticultural area, the petition emphasizes.

Distinguishing Features

The Wahluke Slope region is situated on the Columbia Plateau in eastern Washington, which is bordered by the Rocky Mountains on the north and east, the Blue Mountains to the south, and the Cascade Mountains to the west. The proposed Wahluke Slope viticultural area sits on the south-facing benchlands of the Saddle Mountains.

Topography

The proposed Wahluke Slope viticultural area's elevation varies from 425 feet along the Columbia River to 1,480 feet on the south slope of the Saddle Mountains, as shown on USGS maps and stated in the petition. Also, most of the proposed area's vineyards are between 425 feet and 1,000 feet in elevation.

The proposed Wahluke Slope viticultural area is geographically isolated from other wine production areas in the State of Washington, the petition explains. Wahluke Slope is immediately bounded by the bedrock ridge of the Saddle Mountains, the Columbia River, and U.S. national monument lands, providing isolation and a separate viticultural identity, according to the petition.

The proposed Wahluke Slope viticultural area, the petition explains, sits on a mega alluvial fan, a single landform geographical area, extending 15 miles in length. Other viticultural areas in Washington State, according to the petition, have more diverse and complex geographic areas, with the possible exception of the much smaller Red Mountain area (27 CFR 9.167).

The south-facing Wahluke Slope landform has relatively flat agricultural sites that allow for viticultural uniformity in plant vigor and ripening, the petition explains. Also, the mega fan eventually drops away several hundred feet on three sides, providing good air drainage from spring and fall freezes.

Soils

Ice-age events played an important role in the formation of soils in the proposed viticultural area, the petition explains. When the Lake Missoula glacial ice dam repeatedly failed, large water floods flowed across eastern Washington depositing gravel bars and fine-grained sandy and silty sediments. Winds reworked the glacial sediments to form dunes of sand and loess (the silty sediment accumulated from the fallout of dust). These sediments range in thickness from a few inches to many feet deep, the petition states. Soils of the proposed Wahluke Slope viticultural area have formed predominantly from deep wind-blown sand, averaging greater than 60 inches in depth, the petition explains. To a lesser extent, some soils have formed from the wind-blown sand or silty loess sediments of the giant glacial floods.

Wahluke Slope soils are distinctive by their uniformity over large areas, the petition explains. The Quincy-Burbank-Hezel soil series, which covers more than half the proposed viticultural area, encompasses a contiguous area of several square miles as documented in the Soil Survey of Grant County, Washington, Gentry, 1984, on map sheets 163, 164, and 169. The petition notes that this uniformity contrasts to the soil variability of some nearby regions, including the Red Mountain viticultural area and the Canoe Ridge area of the Horse Heaven Hills region. Other soils series within the proposed boundaries that are documented in the Soil Survey of Grant County include Sagemoor-Kennewick-Warden, Taunton-Timmerman-Quincy, Scoon-Taunton-Finley, and several others with small acreages.

Wahluke Slope soils are unique, the petition explains, with their smooth landform shape, shallow slope angle that averages less than 8 percent, and predominant south-facing orientation at the top of the flood mega fan. This smooth landform, the petition adds, results in consistent climate variability across the proposed viticultural area.

Climate

The petition uses Wahluke Slope area climatic statistics available from Washington's Public Agricultural Weather System (PAWS) Web site, accessed April 5, 2004. Information for the petition generally spans 10 years—1994 through 2003—as available, according to the petition.

Precipitation in the proposed Wahluke Slope viticultural area averages 5.9 inches annually, making it the driest in that region of east Washington, according to PAWS. Also, the area has the lowest harvest rainfall average for the weather stations compared. The viticultural advantages, the petition explains, include irrigation control during the growing season and low potential of harmful rainfall at harvest.

Pan evapotranspiration (Etp) in the Wahluke Slope area ranks first in the nine PAWS stations used. The petition explains that photosynthesis and transpiration, which are key factors in grape production, are the highest in the Wahluke Slope area as compared to other selected stations in Washington. Wahluke Slope averages 3,013 growing degree-day units annually. (During the growing season, one degree day accumulates for each degree Fahrenheit that a day's average temperature is above 50 degrees, which is the minimum temperature required for grapevine growth. See “General Viticulture,” by Albert J. Winkler, University of California Press, 1974.)

The Wahluke Slope area ranks third highest in mean maximum temperature, mean annual temperature, and solar radiation, according to PAWS data. The petition explains that these temperatures confirm Wahluke Slope as a grape-growing hot spot within Washington. Finally, Wahluke Slope is the third windiest site evaluated, which affects grape plant growth, causing shorter shoot length, smaller leaf size, and fewer and smaller grape clusters.

Boundary Description

See the narrative boundary description of the petitioned-for viticultural area in the proposed regulatory text published at the end of this notice.

Maps

The petitioner provided the required maps, and we list them below in the proposed regulatory text.

Impact on Current Wine Labels

Part 4 of the TTB regulations prohibits any label reference on a wine that indicates or implies an origin other than the wine's true place of origin. If we establish this proposed viticultural area, its name, “Wahluke Slope,” will be recognized as a name of viticultural significance.

In addition, with the establishment of the Wahluke Slope viticultural area, the name “Wahluke” standing alone will be considered a term of viticultural significance because consumers and vintners could reasonably attribute the quality, reputation, or other characteristic of wine made from grapes grown in the proposed Wahluke Slope viticultural area to the name Wahluke itself. We note in this regard that information contained in the Geographic Names Information System maintained by the USGS, and a general search of relevant Internet Web sites, including the Wahluke School District, Wahluke High School, Wahluke Branch Canal and Wahluke Branch Ten Wasteway (canal), reveal that the name “Wahluke” is not used in many different geographic contexts throughout the United States but rather appears to apply in particular to the area in the State of Washington encompassed by the proposed Wahluke Slope viticultural area. Based on the evidence submitted, we find that “Wahluke” alone is locally and/or nationally known as referring to the area in the State of Washington encompassed by the proposed Wahluke Slope viticultural area. See 27 CFR 4.39(i)(3), which also provides that a name has viticultural significance when determined by a TTB officer.

Therefore, the proposed part 9 regulatory text set forth in this document specifies both “Wahluke Slope” and “Wahluke” as terms of viticultural significance for purposes of part 4 of the TTB regulations. If this proposed text is adopted as a final rule, wine bottlers using “Wahluke Slope” or “Wahluke” in a brand name, including a trademark, or in another label reference as to the origin of the wine, will have to ensure that the product is eligible to use “Wahluke Slope” or “Wahluke” as an appellation of origin.

For a wine to be eligible to use as an appellation of origin a viticultural area name or other term specified as being viticulturally significant in part 9 of the TTB regulations, at least 85 percent of the grapes used to make the wine must have been grown within the area represented by that name or other term and the wine must meet the other conditions listed in 27 CFR 4.25(a)(3). If the wine is not eligible to use as an appellation of origin a viticultural area name or other viticulturally significant term that appears in the brand name, then the label is not in compliance and the bottler must change the brand name and obtain approval of a new label. Similarly, if the viticultural area name or other viticulturally significant term appears in another reference on the label in a misleading manner, the bottler would have to obtain approval of a new label. Accordingly, if a new label or a previously approved label uses the name “Wahluke Slope” or “Wahluke” for a wine that does not meet the 85 percent standard, the new label will not be approved, and the previously approved label will be subject to revocation, upon the effective date of the approval of the Wahluke Slope viticultural area.

Different rules apply if a wine has a brand name containing a viticultural area name that was used as a brand name on a label approved before July 7, 1986. See 27 CFR 4.39(i)(2) for details.

Public Participation

Comments Invited

We invite comments from interested members of the public on whether we should establish the proposed viticultural area. We are also interested in receiving comments on the sufficiency and accuracy of the name, climatic, boundary and other required information submitted in support of the petition. In addition, we are interested in receiving comments on the proposal to identify “Wahluke” as a term of viticultural significance. Please provide any available specific information in support of your comments.

Because of the potential impact of the establishment of the proposed Wahluke Slope viticultural area on brand labels that include the words “Wahluke Slope” or the word “Wahluke” as discussed above under Impact on Current Wine Labels, we are particularly interested in comments regarding whether there will be a conflict between the proposed area name (including “Wahluke” alone) and currently used brand names. If a commenter believes that a conflict will arise, the comment should describe the nature of that conflict, including any anticipated negative economic impact that approval of the proposed viticultural area will have on an existing viticultural enterprise. We are also interested in receiving suggestions for ways to avoid conflicts, for example by adopting a modified or different name for the viticultural area.

Submitting Comments

Please submit your comments by the closing date shown above in this notice. Your comments must include this notice number and your name and mailing address. Your comments must be legible and written in language acceptable for public disclosure. We do not acknowledge receipt of comments, and we consider all comments as originals. You may submit comments in one of five ways:

• Mail: You may send written comments to TTB at the address listed in the ADDRESSES section.

• Facsimile: You may submit comments by facsimile transmission to 202-927-8525. Faxed comments must—

(1) Be on 8.5- by 11-inch paper;

(2) Contain a legible, written signature; and

(3) Be no more than five pages long. This limitation assures electronic access to our equipment. We will not accept faxed comments that exceed five pages.

• E-mail: You may e-mail comments to nprm@ttb.gov. Comments transmitted by electronic mail must—

(1) Contain your e-mail address;

(2) Reference this notice number on the subject line; and

(3) Be legible when printed on 8.5- by 11-inch paper.

• Online form: We provide a comment form with the online copy of this notice on our Web site at http://www.ttb.gov/alcohol/rules/index.htm. Select the “Send comments via e-mail” link under this notice number.

• Federal e-rulemaking portal: To submit comments to us via the Federal e-rulemaking portal, visit http://www.regulations.gov and follow the instructions for submitting comments.

You may also write to the Administrator before the comment closing date to ask for a public hearing. The Administrator reserves the right to determine, in light of all circumstances, whether to hold a public hearing.

Confidentiality

All submitted material is part of the public record and subject to disclosure. Do not enclose any material in your comments that you consider confidential or inappropriate for public disclosure.

Public Disclosure

You may view copies of this notice, the petition, the appropriate maps, and any comments we receive by appointment at the TTB Library at 1310 G Street, NW., Washington, DC 20220. You may also obtain copies at 20 cents per 8.5- x 11-inch page. Contact our librarian at the above address or by telephone at 202-927-2400 to schedule an appointment or to request copies of comments.

For your convenience, we will post this notice and any comments we receive on this proposal on the TTB Web site. We may omit voluminous attachments or material that we consider unsuitable for posting. In all cases, the full comment will be available in the TTB Library. To access online copies of this notice and the posted comments, visit http://www.ttb.gov/alcohol/rules/index.htm. Select the “View Comments” link under this notice number to view the posted comments.

Regulatory Flexibility Act

We certify that this proposed regulation, if adopted, will not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866, 58 FR 51735. Therefore, it requires no regulatory assessment.

Drafting Information

N.A. Sutton of the Regulations and Procedures Division drafted this notice.

List of Subjects in 27 CFR Part 9

Wine.

Proposed Regulatory Amendment

For the reasons discussed in the preamble, we propose to amend 27 CFR, chapter 1, part 9, Code of Federal Regulations, as follows:

PART 9—AMERICAN VITICULTURAL AREAS

1. The authority citation for part 9 continues to read as follows:

Authority: 27 U.S.C. 205.

2. Amend subpart C by adding § 9.__ to read as follows:

Subpart C—Approved American Viticultural Areas

§ 9.__ Wahluke Slope.

(a) Name. The name of the viticultural area described in this section is “Wahluke Slope”. For purposes of part 4 of this chapter, “Wahluke Slope” and “Wahluke” are terms of viticultural significance.

(b) Approved Maps. The appropriate maps for determining the boundaries of the Wahluke Slope viticultural area are eight United States Geological Survey (USGS) 1:250,000 scale, topographic maps. They are titled:

(1) Beverly Quadrangle, Washington, 1965;

(2) Beverly SE Quadrangle, Washington—Grant Co., 1965;

(3) Smyrna Quadrangle, Washington—Grant Co., Provisional Edition 1986;

(4) Wahatis Peak Quadrangle, Washington—Grant Co., Provisional Edition 1986;

(5) Coyote Rapids Quadrangle, Washington, Provisional Edition 1986;

(6) Vernita Bridge Quadrangle, Washington, Provisional Edition 1986;

(7) Priest Rapids NE Quadrangle, Washington, Provisional Edition 1986; and

(8) Priest Rapids Quadrangle, Washington, 1948; photo revised 1978.

(c) Boundary. The Wahluke Slope viticultural area is located in Grant County, Washington. The boundary of the Wahluke Slope viticultural area is as described below:

(1) The beginning point is at the northwest corner of the proposed viticultural area where the east bank of the Columbia River intersects with the north boundary line of section 22, T15N/R23E, on the Beverly map;

(2) From the beginning point proceed straight east 1.5 miles to the intersection of the section 23 north boundary line and the 1,480-foot elevation line, T15N/R23E, Beverly map; then

(3) Proceed generally east along the meandering 1,480-foot elevation line, pass the Beverly map, continue across the Beverly SE map and the Smyrna map, and pass onto the Wahatis Peak map to the intersection of the 1,480-foot elevation line and the eastern boundary line of section 15, which forms a portion of the boundary line of the Hanford Site, T15N/R26E, Wahatis Peak map; then

(4) Proceed generally southwest along the Hanford Site boundary in a series of 90 degree angles, crossing a portion of section 36, T15N/R25E, on the Coyote Rapids map, continuing across the Vernita Bridge map, and passing onto the Priest Rapids NE map, and continue to the intersection of the Hanford Site Boundary and the north bank of the Columbia River, section 10, T13N/R24E, Priest Rapids NE map; then

(5) Proceed generally west along the north bank of the Columbia River, crossing onto the Priest Rapids map and, turning north-northwest, continue along the river bank and, crossing onto the Beverly map, return to the beginning point at the intersection of the east bank of the Columbia River and the north boundary line of section 22, T15N/R23E, Beverly map.

Signed: April 27, 2005.
John J. Manfreda,
Administrator.

[FR Doc. 05-10009 Filed 5-18-05; 8:45 am]

BILLING CODE 4810-31-P